DEPARTMENT OF HEALTH AND HUMAN SERVICES

Health Resources and Services Administration

Agency Information Collection Activities: Submission to OMB for Review and Approval; Public Comment Request; Maternal, Infant, and Early Childhood Home Visiting Program Home Visiting Budget Assistance Tool, OMB No. 0906-0025—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30-day comment period for this Notice has closed.

DATES: Comments on this ICR should be received no later than February 18, 2020.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference.

Information Collection Request Title: Maternal, Infant, and Early Childhood Home Visiting Program Home Visiting Budget Assistance Tool, OMB No. 0906-0025—Revision.

Abstract: HRSA is requesting continued approval of the Home Visiting Budget Assistance Tool (HV-BAT), as modified by HRSA in response to further testing and public comments, as further described below. The tool collects information on standardized cost metrics from programs that deliver home visiting services, as outlined in the HV-BAT. During Fiscal Year (FY) 2020, prior to required use of the tool by awardees starting in FY 2021, HRSA intends to conduct a follow-up study to test the feasibility of the HV-BAT for universal implementation across Maternal, Infant, and Early Childhood Home Visiting (MIECHV) programs and the tool's capacity to support program planning, budget forecasting, fiscal sub-recipient monitoring and to estimate national program costs. In addition, HRSA will investigate the necessary resources and support for successful execution of the HV-BAT prior to initiating the reporting requirement. Upon successful completion of the FY 2020 feasibility study, beginning in FY 2021, HRSA will require reporting of HV-BAT data for one-third of awardees in each 3-year cycle, resulting in collection of data from all awardees over a 3-year time period, to inform program planning and budgeting.

The MIECHV Program, authorized by section 511 of the Social Security Act, 42 U.S.C. 711, and administered by HRSA in partnership with the Administration for Children and Families, supports voluntary, evidence-based home visiting services during pregnancy and to parents with young children up to kindergarten entry. States, Tribal entities, and certain nonprofit organizations are eligible to receive funding from the MIECHV Program and have the flexibility to tailor the program to serve the specific needs of their communities. Funding recipients may subaward grant funds to local implementing agencies (LIAs) in order to provide services to eligible families in at-risk communities.

HRSA is revising its originally described HV-BAT data collection purpose. Original clearance under this OMB control number was for pilot testing the reliability of a standardized cost-reporting tool among evidence-based home visiting programs. HRSA has revised the data collection tool to reflect findings and recommendations from the pilot study and in response to public comments to ensure clarity, usability and fidelity, including changes to instructions, definitions and estimated burden.

A 60-day notice was published in the Federal Register on August 1, 2019, vol. 84, No. 148, pp. 37655-56. There were eight public comments.

HRSA announced a 60-day public comment period to solicit input on its HV-BAT data collection efforts. In response to this notice, HRSA received feedback on the following aspects:

• Utilization of Data Collection

• Documentation and Reporting Requirements

• Accuracy of the Estimated Burden

• Implementation

HRSA carefully reviewed the comments received and used them to guide the development of the a follow-up HV-BAT feasibility study to be conducted in FY 2020 that will further inform the FY 2021 HV-BAT reporting requirements.

Responses to Comments on the Proposed MIECHV HV-BAT

HRSA received eight responses to the request for public comment. Four commenters are current MIECHV awardees, two are home visiting model developers, one is a national association, and one is an individual respondent. Comments are summarized below.

Utilization of Data Collection

Summary of Comments

Commenters expressed concern over the utility of the HV-BAT as a budget planning tool and its ability to account for variables that differ across models, program populations, providers and settings which could impact cost comparisons. In addition, respondents requested more information on the intended long-term use of the HV-BAT data.

Response

HRSA intends the HV-BAT to inform future budget planning, monitoring, and review of the costs of implementing home visiting at the LIA level in a state and support other programmatic priorities such as cost-benefit analysis and reimbursement policies. The tool in its current state provides information to permit calculation of certain cost metrics, such as cost per family, which can be used to assist in program planning and budget forecasting. Further, the HV-BAT feasibility study will examine the use of the HV-BAT to conduct cost benefit calculations. The feasibility study will also examine how the HV-BAT accounts for other types of cost variation, such as cost of living and inflation. Information collected in the feasibility study will be used to establish standards for implementation.

Documentation and Reporting Requirements

Summary of Comments

Commenters requested clarification around obligations to report cost data for home visiting services funded through sources other than the MIECHV program. In addition, a number of commenters cautioned that the home visiting model used, target population served, and geographic location are all factors that could have a significant impact on cost variation, making it difficult to compare data across models and locations/LIAs.

Response

HRSA intends that use of the HV-BAT is limited to HRSA MIECHV-funded programs. The HV-BAT includes variables that are used to capture variations in demographic information (e.g., percent of families living in rural areas, percent of families of living in poverty). Such variation was not found to be significant in the pilot study, although the HV-BAT feasibility study will further explore how different explanatory variables may affect cost variation in order to better understand how program features drive cost variation to support useful and meaningful comparisons.

Accuracy of Estimated Burden

Summary of Comments

Several commenters indicated that HRSA's estimated burden was too low. In particular, while LIA burden was accounted for, the administrative burden of state awardees was not included. These commenters suggested that HV-BAT reporting requirements would add an administrative burden to state awardees in addition to the burden on LIAs and offered alternative calculations. Additional burden due to the potential competing demands of model fidelity and federal reporting requirements were also noted.

Response

In response to these comments, HRSA has increased the estimated burden to 18 hours per agency (including both LIAs and state-level recipients). HRSA will also explore the ability to adjust the timing of the HV-BAT reporting requirement to accommodate for model-specific quality and fidelity review and reporting conditions.

Implementation

Summary of Comments

Commenters requested HRSA offer more clear and specific guidance on the cost categories and program characteristic data (e.g., defining full-time equivalent, turnover, and program activities) to be collected as part of the HV-BAT to ensure consistency across LIAs and states.

Response

HRSA plans to provide technical assistance materials, such as user guides, frequently asked questions, instrument instructions and definitions of data points for MIECHV awardees to assist recipients in providing data consistent with this notice.

Need and Proposed Use of the Information: Immediately following OMB clearance, during FY 2020, HRSA plans to make the tool available for optional use by MIECHV state awardees prior to requiring its use in FY 2021. Awardees who utilize the HV-BAT during FY 2020 will submit the data collected directly to HRSA. This will allow HRSA to further test the feasibility of collecting comprehensive cost data at the state level; estimate national level costs for use in conducting research and analysis of home visiting costs; understand cost variation; assess how comprehensive program cost data can inform other policy priorities, such as innovative financing strategies; review the data to ensure accuracy; and analyze the data for the purpose of federal research.

Beginning in FY 2021, HRSA will require reporting of HV-BAT data for MIECHV awardees to inform program planning and budgeting as part of their annual formula funding application. HRSA anticipates that one-third of the awardees will participate in this data collection each year as a component of their operational site visit and HRSA will identify the awardees with the HV-BAT reporting requirement in that year. This process will ease burden on awardees by requiring data collection for each awardee once every 3 years and allowing HRSA to capture a national data set every 3 years.

Likely Respondents: MIECHV Program Awardees (n=56).

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Instrument | Number of respondents | Number of responses per respondent | Total responses | Average burden hours per response | Total burden hours
Maternal, Infant, and Early Childhood Home Visiting Program Budget Assistance Tool | 19 | 13 | 247 | 18 | 4,446
Total | 19 |  | 247 |  | 4,446

Maria G. Button,
Director, Executive Secretariat.

[FR Doc. 2020-00674 Filed 1-16-20; 8:45 am]

BILLING CODE 4165-15-P